DEPARTMENT OF STATE

[Public Notice 8852]

U.S. Advisory Commission on Public Diplomacy; Notice of Meeting

The U.S. Advisory Commission on Public Diplomacy will hold a public meeting from 10:00 a.m. until 11:30 a.m., Tuesday, September 16, 2014 in SVC 209-08 on the Senate Side of the Capitol Visitor's Center at First St. SE., Washington, DC 20515.

The meeting's topic will be on “Evaluating Public Diplomacy and International Broadcasting's Impact” and will announce findings from the Commission's six-month deep dive into the research designs, processes and structures in place for research and evaluation at the U.S. Department of State and the Broadcasting Board of Governors. This is the first major report the Commission has released since 2010. The meeting will feature contributors to the report, including Sean Aday, Associate Professor at The George Washington University; Amelia Arsenault, Assistant Professor at Georgia State University; Craig Hayden, Assistant Professor at American University; and Shawn Powers, Assistant Professor at Georgia State University. Official representatives who focus on research and evaluation in public diplomacy and international broadcasting will also be in attendance.

This meeting is open to the public, Members and staff of Congress, the State Department, Defense Department, the media, and other governmental and non-governmental organizations. To attend and make any requests for reasonable accommodation, email pdcommission@state.gov by 5 p.m. on Thursday, September 11, 2014. Please arrive for the meeting by 9:45 a.m. to allow for a prompt meeting start.

The United States Advisory Commission on Public Diplomacy appraises U.S. Government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

The Commission consists of seven members appointed by the President, by and with the advice and consent of the Senate. The members of the Commission shall represent the public interest and shall be selected from a cross section of educational, communications, cultural, scientific, technical, public service, labor, business, and professional backgrounds. Not more than four members shall be from any one political party. The President designates a member to chair the Commission.

The current members of the Commission are: Mr. William Hybl of Colorado, Chairman; Ambassador Lyndon Olson of Texas, Vice Chairman; Mr. Sim Farar of California, Vice Chairman; Ambassador Penne Korth-Peacock of Texas; Ms. Lezlee Westine of Virginia; and Anne Terman Wedner of Illinois. One seat on the Commission is currently vacant.

The following individual has been nominated to the Commission but awaits Senate confirmation as of this writing: Alfredo Balsera of Florida.

To request further information about the meeting or the U.S. Advisory Commission on Public Diplomacy, you may contact its Executive Director, Katherine Brown, at BrownKA4@state.gov.

Dated: August 21, 2014.
Katherine Brown,
Executive Director, Department of State.

[FR Doc. 2014-20404 Filed 8-26-14; 8:45 am]

BILLING CODE 4710-11-P